DEPARTMENT OF THE INTERIOR

National Park Service

[NPS-WASO-NAGPRA-23496; PPWOCRADN0-PCU00RP14.R50000]

Notice of Intent To Repatriate Cultural Items: Cincinnati Art Museum, Cincinnati, OH

AGENCY: National Park Service, Interior.

ACTION: Notice.

SUMMARY: The Cincinnati Art Museum, in consultation with the appropriate Indian Tribes or Native Hawaiian organizations, has determined that the cultural items listed in this notice meet the definition of sacred objects. Lineal descendants or representatives of any Indian Tribe or Native Hawaiian organization not identified in this notice that wish to claim these cultural items should submit a written request to the Cincinnati Art Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Cincinnati Art Museum at the address in this notice by August 23, 2017.

ADDRESSES: Jay Pattison, Chief Registrar, Cincinnati Art Museum, 953 Eden Park Drive, Cincinnati, OH 45202, telephone (513) 639-2909, email jay.pattison@cincyart.org.

SUPPLEMENTARY INFORMATION: Notice is here given in accordance with the Native American Graves Protection and Repatriation Act (NAGPRA), 25 U.S.C. 3005, of the intent to repatriate cultural items under the control of the Cincinnati Art Museum, Cincinnati, OH, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At some time between the mid-1920s and mid-1930s, two cultural items were removed from the Lac du Flambeau Chippewa Reservation in Vilas County, WI. The two cultural items are two wooden pipe stems. The upper section of the first pipe stem (CAM accession number 1988.253) is carved into a spiral shape and trimmed with loom-woven beadwork. The lower section is flat, with a strip of beaver fur at each end. The upper section of the second pipe stem (CAM accession number 1988.256) is carved with spool and ovoid shapes that are decorated with brass tacks. The pipe is trimmed with beaver fur at its center. The lower section is flat with incised, linear abstract designs on one side. At an unknown date, the two pipe stems were acquired by Dr. Bernard S. Mason, along with other objects originating from the Lac du Flambeau Chippewa Reservation. Upon Dr. Mason's death in 1953, ownership of his collection of Native American objects was transferred to John L. Holden. In 1988, Mr. Holden donated a portion of this collection that included the two pipe stems to the Cincinnati Art Museum.

Museum accession, catalogue, and documentary records, as well as consultation with representatives from the Lac du Flambeau Band of Lake Superior Chippewa Indians, indicate that the two cultural items are Chippewa, and are from the Lac du Flambeau Chippewa Reservation of Wisconsin. The two objects are illustrated as line drawings in Dr. Mason's book, Crafts of the Woods, South Brunswick and New York: A. S. Barnes and Co, 1973 (originally published in 1939), page 20, Figure 202C and Figure 202D. The pipes, combined with a ceremonial Warrior Drum, comprise an ensemble of sacred objects that are needed by traditional Lac du Flambeau Chippewa religious leaders for the practice of Native American religions by their present-day adherents.

Determinations Made by the Cincinnati Art Museum

Officials of the Cincinnati Art Museum have determined that:

• Pursuant to 25 U.S.C. 3001(3)(C), the two cultural items described above are specific ceremonial objects needed by traditional Native American religious leaders for the practice of traditional Native American religions by their present-day adherents.

• Pursuant to 25 U.S.C. 3001(2), there is a relationship of shared group identity that can be reasonably traced between the two pipe stems and the Lac du Flambeau Band of Lake Superior Chippewa Indians of the Lac du Flambeau Reservation of Wisconsin.

Additional Requestors and Disposition

Lineal descendants or representatives of any Indian Tribe or Native Hawaiian organization not identified in this notice that wish to claim these cultural items should submit a written request with information in support of the claim to Jay Pattison, Chief Registrar, Cincinnati Art Museum, Cincinnati, OH 45202, telephone (513) 639-2909, email jay.pattison@cincyart.org, by August 23, 2017. After that date, if no additional claimants have come forward, transfer of control of the two pipe stems to the Lac du Flambeau Band of Lake Superior Chippewa Indians of the Lac du Flambeau Reservation of Wisconsin may proceed.

The Cincinnati Art Museum is responsible for notifying the Lac du Flambeau Band of Lake Superior Chippewa Indians of the Lac du Flambeau Reservation of Wisconsin that this notice has been published.

Dated: May 31, 2017.
Melanie O'Brien,
Manager, National NAGPRA Program.

[FR Doc. 2017-15468 Filed 7-21-17; 8:45 am]

BILLING CODE 4312-52-P